GENERAL SERVICES ADMINISTRATION

Office of Governmentwide Policy

Cancellation of an Optional Form by the Office of Personnel Management (OPM)

AGENCY: Office of Governmentwide Policy, GSA.

ACTION: Notice.

SUMMARY: The Office of Personnel Management (OPM) cancelled OF 86, Personal Data (Warning) Label (Large) since it is no longer needed.

FOR FURTHER INFORMATION CONTACT: Ms. Barbara Williams, General Services Administration, (202) 501-0581.

DATES: Effective June 23, 2005.

Dated: June 13, 2005.
Barbara M. Williams,
Standard and Optional Forms Management Officer, General Services Administration.

[FR Doc. 05-12416 Filed 6-22-05; 8:45 am]

BILLING CODE 6820-34-M